DEPARTMENT OF LABOR

Employee Benefits Security Administration

155th Meeting of the Advisory Council on Employee Welfare and Pension Benefit Plans; Notice of Teleconference Meeting

Pursuant to the authority contained in Section 512 of the Employee Retirement Income Security Act of 1974 (ERISA), 29 U.S.C. 1142, the 155th open meeting of the Advisory Council on Employee Welfare and Pension Benefit Plans (also known as the ERISA Advisory Council) will be held on February 28, 2011. The session will take place in Room N5677, U.S. Department of Labor, 200 Constitution Avenue NW., Washington, DC 20210. Public access is available only in this room (i.e. not by telephone). The purpose of the open meeting, which will run from 2 p.m. to approximately 4:30 p.m. (EST), is to introduce the Council Chair and Vice Chair, receive an update from the Assistant Secretary of Labor for the Employee Benefits Security Administration, and determine the topics to be addressed by the Council in 2011.

Organizations or members of the public wishing to submit a written statement may do so by submitting 30 copies on or before February 21, 2011 to Larry Good, Executive Secretary, ERISA Advisory Council, U.S. Department of Labor, Suite N-5623, 200 Constitution Avenue, NW., Washington, DC 20210. Statements also may be submitted as e-mail attachments in text or pdf format transmitted to good.larry@dol.gov. It is requested that statements not be included in the body of the e-mail. Relevant statements received on or before February 21, 2011 will be included in the record of the meeting. Individuals or representatives of organizations wishing to address the Advisory Council should forward their requests to the Executive Secretary by e-mail or telephone (202-693-8668). Oral presentations will be limited to ten minutes, time permitting, but an extended statement may be submitted for the record. Individuals with disabilities who need special accommodations should contact the Executive Secretary by February 21 at the telephone number indicated.

Signed at Washington, DC, this 31st day of January 2011.
Michael L. Davis,
Deputy Assistant Secretary, Employee Benefits Security Administration.

[FR Doc. 2011-2505 Filed 2-3-11; 8:45 am]

BILLING CODE 4510-29-P